DEPARTMENT OF AGRICULTURE

Animal and Plant Health Inspection Service

[Docket No. 00-098-1]

Notice of Request for Extension of Approval of an Information Collection

AGENCY: Animal and Plant Health Inspection Service, USDA.

ACTION: Extension of approval of an information collection; comment request.

SUMMARY: In accordance with the Paperwork Reduction Act of 1995, this notice announces the Animal and Plant Health Inspection Service's intention to request an extension of approval of an information collection in support of regulations intended to prevent the introduction of fruit flies from Hawaii onto the mainland United States.

DATES: We invite you to comment on this docket. We will consider all comments that we receive by January 12, 2001.

ADDRESSES: Please send your comment and three copies to:

Docket No. 00-098-1, Regulatory Analysis and Development

PPD, APHIS, Suite 3C03, 4700 River Road, Unit 118, Riverdale, MD 20737-1238. Please state that your comment refers to Docket No. 00-098-1.

You may read any comments that we receive on this docket in our reading room. The reading room is located in room 1141 of the USDA South Building, 14th Street and Independence Avenue, SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: For information regarding the interstate movement of fruits and vegetables from Hawaii, contact Ms. Donna L. West, Import Specialist, Phytosanitary Issues Management Team, PPQ, APHIS, 4700 River Road Unit 140, Riverdale, MD 20737-1236; (301) 734-6799. For copies of more detailed information on the information collection, contact Mrs. Celeste Sickles, APHIS' Information Collection Coordinator, at (301)

734-7477.

SUPPLEMENTARY INFORMATION: Title: Fruit from Hawaii.

OMB Number: 0579-0123.

Expiration Date of Approval: November 30, 2000.

Type of Request: Extension of approval of an information collection.

Abstract: The Plant Protection & Quarantine Division (PPQ) of the United States Department of Agriculture's Animal and Plant Health Inspection Service regulates the interstate movement of fruits and vegetables from Hawaii to prevent the spread of the Mediterranean fruit fly, the melon fruit fly, the Oriental fruit fly, and the Malaysian fruit fly pests that occur in Hawaii and that could cause millions of dollars in damage to U.S. agriculture if they become established on the mainland United States. These regulations are at 7 CFR, part 318, §§ 318.13 through 318.13-17.

We have in place regulations designed to facilitate the movement of abui, atemoya, bananas, longan, rambutan, sapodilla, durian, papayas, carambolas, litchis, and other fruits and vegetables from Hawaii while continuing to provide protection against the spread of fruit flies from Hawaii to the mainland United States. Specifically, our regulations provide for irradiation of this fruit in Hawaii prior to being moved to the mainland United States. In addition, the regulations allow abui, atemoya, bananas, longan, rambutan, sapodilla, papayas, carambolas, litchis that have not been irradiated in Hawaii to be moved to non-fruit fly supporting areas of the mainland United States for irradiation treatment. The regulations also allow durian (which is not a fruit fly host) to be moved from Hawaii to the mainland United States provided it is inspected by an authorized inspector in Hawaii and found to be free of certain plant pests.

Regulating the movement of this fruit from Hawaii to the mainland United States requires us to engage in a number of information collection activities, including the use of certificates, limited permits, compliance agreements, requests for treatment facility approval, requests for certification and recertification of testing equipment, and recordkeeping systems.

We are asking the Office of Management and Budget (OMB) to approve, for an additional 3 years, our use of these information collection activities in connection with our program to facilitate the interstate movement of abui, atemoya, bananas, longan, rambutan, sapodilla, durian, papayas, carambolas, litchis, and other fruits and vegetables from Hawaii with minimal risk of introducing destructive fruit flies onto the mainland United States.

The purpose of this notice is to solicit comments from the public (as well as affected agencies) concerning this information collection activity. These comments will help us:

(1) Evaluate whether the information collection is necessary for the proper performance of our Agency's functions, including whether the information will have practical utility;

(2) Evaluate the accuracy of our estimate of the burden of the information collection, including the validity of the methodology and assumptions used;

(3) Enhance the quality, utility, and clarity of the information to be collected; and

(4) Minimize the burden of the collection of information on those who are to respond, through use, as appropriate, of automated, electronic, mechanical, and other collection technologies, e.g., permitting electronic submission of responses.

Estimate of burden: The public reporting burden for this collection of information is estimated to average 15 minutes per response.

Respondents: Fruit and vegetable producers, shippers, importers, exporters, irradiation facility personnel, and State plant regulatory officials.

Estimated annual number of respondents: 300.

Estimated annual number of responses per respondent: 10.

Estimated annual number of responses: 3,000.

Estimated total annual burden on respondents: 750 hours. (Due to rounding, the total annual burden hours may not equal the product of the annual number of responses multiplied by the average reporting burden per response.)

All responses to this notice will be summarized and included in the request for OMB approval. All comments will also become a matter of public record.

Done in Washington, DC, this 2nd day of November 2000 .
Bobby R. Acord
Acting Administrator, Animal and Plant Health Inspection Service.

[FR Doc. 00-28971 Filed 11-9-00; 8:45 am]

BILLING CODE 3410-34-U